ENVIRONMENTAL PROTECTION AGENCY

[ER-FRL-9024-7]

Environmental Impact Statements; Notice of Availability

Responsible Agency: Office of Federal Activities, General Information (202) 564-7146 or http://www2.epa.gov/nepa

Weekly receipt of Environmental Impact Statements (EISs)

Filed 12/21/2015 Through 12/24/2015

Pursuant to 40 CFR 1506.9.

Notice

Section 309(a) of the Clean Air Act requires that EPA make public its comments on EISs issued by other Federal agencies. EPA's comment letters on EISs are available at: http://cdxnodengn.epa.gov/cdx-nepa-public/action/eis/search.

EIS No. 20150363, Draft, USFS, MT, Center Horse Landscape Restoration Project, Comment Period Ends: 02/16/2016, Contact: Tami Paulsen 406-329-3731.

EIS No. 20150364, Second Draft Supplemental, NRC, NY, Generic—License Renewal of Nuclear Plants, Supplement 38, Volume 5, Regarding Indian Point Nuclear Generating Unit Nos. 2 and 3, Comment Period Ends: 03/04/2016, Contact: Michael Wentzel 301-415-6459.

EIS No. 20150365, Final, USACE, CA, Panoche Valley Solar Project, Review Period Ends: 02/01/2016, Contact: Lisa Gibson 916-557-5288.

EIS No. 20150366, Draft, USFS, MT, Lower Yaak, O'Brien, Sheep Project, Comment Period Ends: 02/16/2016, Contact: Miles Friend 406-295-4693.

EIS No. 20150367, Draft, USACE, CA, Upper Llagas Creek Flood Project, Comment Period Ends: 02/16/2016, Contact: Jim Mazza 415-503-6775.

Dated: December 28, 2015.
Dawn Roberts,
Management Analyst, NEPA Compliance Division, Office of Federal Activities.

[FR Doc. 2015-32971 Filed 12-30-15; 8:45 am]

BILLING CODE 6560-50-P